INTERNATIONAL TRADE COMMISSION

[Investigation No. 337-TA-1167]

Certain Laparoscopic Surgical Staplers, Reload Cartridges, and Components Thereof; Commission Determination To Review in Part a Final Initial Determination Finding a Violation of Section 337; Schedule for Filing Written Submissions on the Issues Under Review and on Remedy, Public Interest, and Bonding

AGENCY: U.S. International Trade Commission.

ACTION: Correction of notice.

SUMMARY: Correction is made to notice 86 FR 46882, which was published on August 20, 2021. There is a typographical error in the investigation number on the first page caption section. The correct investigation number should read: Investigation No. 337-TA-1167.

By order of the Commission.
Issued: August 20, 2021.
Lisa Barton,
Secretary to the Commission.

[FR Doc. 2021-18313 Filed 8-24-21; 8:45 am]

BILLING CODE 7020-02-P